ENVIRONMENTAL PROTECTION AGENCY

40 CFR Part 63

[DC001-1000; FRL-7121-8]

Approval of Section 112(l) Authority for Hazardous Air Pollutants; District of Columbia; Department of Health

AGENCY: Environmental Protection Agency (EPA).

ACTION: Proposed rule.

SUMMARY: EPA is proposing to approve the District of Columbia (the District) Department of Health's (DoH's) request for delegation of authority to implement and enforce its hazardous air pollutant general provisions and hazardous air pollutant emission standards for perchloroethylene dry cleaning facilities, hard and decorative chromium electroplating and chromium anodizing tanks, halogenated solvent cleaning, and publicly owned treatment works, as well as the test methods, which have been adopted by reference from the Federal requirements set forth in the Code of Federal Regulations (CFR). This proposed approval will automatically delegate future amendments to these regulations once the District incorporates these amendments into its regulations. In addition, EPA is proposing to approve of DoH's mechanism for receiving delegation of future hazardous air pollutant regulations. This mechanism entails DoH's incorporation by reference of the unchanged Federal standard into its hazardous air pollutant regulation, DoH's notification to EPA of such incorporation and DoH's submission of a delegation request letter to EPA following EPA notification of a new Federal requirement. This action pertains only to affected sources, as defined by the Clean Air Act's hazardous air pollutant program. In the Final Rules section of this Federal Register, EPA is approving the District of Columbia's request for delegation of authority as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Written comments must be received on or before January 25, 2002.

ADDRESSES: Written comments on this action should be sent concurrently to: Makeba A. Morris, Chief, Permits and Technical Assessment Branch, Mail Code 3AP11, Air Protection Division, U.S. Environmental Protection Agency, Region III, 1650 Arch Street, Philadelphia, PA 19103-2029, and Donald E. Wambsgans II, Program Manager of the Air Quality Division, District of Columbia Department of Health, 825 North Capital Street, NE, Suite 400, Washington, DC 20002. Copies of the documents relevant to this action are available for public inspection during normal business hours at the Air Protection Division, U.S. Environmental Protection Agency, Region III, 1650 Arch Street, Philadelphia, Pennsylvania 19103 and the District of Columbia Department of Health, 825 North Capital Street, NE, Suite 400, Washington, DC 20002.

FOR FURTHER INFORMATION CONTACT: Dianne J. McNally, 215-814-3297, at the EPA Region III address above, or by e-mail at mcnally.dianne@epa.gov. Please note that any formal comments must be submitted, in writing, as provided in the ADDRESSES section of this document.

SUPPLEMENTARY INFORMATION: For further information on this action, pertaining to approval of the District DoH's delegation of authority for the hazardous air pollutant general provisions and hazardous air pollutant emission standards for perchloroethylene dry cleaning facilities, hard and decorative chromium electroplating and chromium anodizing tanks, halogenated solvent cleaning, and publicly owned treatment works, as well as the relevant test methods, please see the direct final rule, with the same title, that is located in the “Rules and Regulations” section of this Federal Register publication.

Dated: December 11, 2001.
Judith M. Katz,
Director, Air Protection Division, Region III.

[FR Doc. 01-31486 Filed 12-21-01; 8:45 am]

BILLING CODE 6560-50-P